NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by August 23, 2021. This application may be inspected by interested parties at the Permit Office, address below.

ADDRESSES: Comments should be addressed to Permit Office, Office of Polar Programs, National Science Foundation, 2415 Eisenhower Avenue, Alexandria, Virginia 22314.

FOR FURTHER INFORMATION CONTACT: Polly Penhale, ACA Permit Officer, at the above address, 703-292-7420, or ACApermits@nsf.gov.

SUPPLEMENTARY INFORMATION: The National Science Foundation, as directed by the Antarctic Conservation Act of 1978 (Pub. L. 95-541, 45 CFR 670) as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2022-002

1. Applicant: Dr. George Watters, Director, AMLR Program, Southwest Fisheries Science Center, National Marine Fisheries Service, 8901 La Jolla Shores Drive, La Jolla, CA 92037

Activity for Which Permit is Requested: Take, Harmful Interference, Enter Antarctic Specially Protected Areas, Import into USA. This permit application pertains to research activities conducted by the National Oceanic and Atmospheric Administration's (NOAA) Antarctic Marine Living Resources (AMLR) Program. The U.S. AMLR Program proposes to take pinniped species in the Antarctic Peninsula region as part of a long-term ecosystem monitoring program established in 1986. Permission is requested for take and harmful interference for Antarctic fur seals (Arctocephalus gazelle), leopard seals (Hydrurga leptonyx), Weddell seals (Leptonychotes weddellii), crabeater seals (Lobodon carcinophaga), southern elephant seals (Mirounga leonine) and Ross seals (Ommatophoca rossii) by harassment associated with life-history studies and surveys to census or estimate abundance and distribution of pinnipeds. Specific take activities include capture/handling/release of animals for studies of attendance behavior, diving, and at-sea foraging location, diet, and population dynamics. Animals will be sedated and anesthetized during tagging and sampling procedures. Procedures include standard measuring of morphometrics, ultra-sounding, attaching of instrumentation, blood and tissue sampling and flipper marking/tagging. All studies of foraging ecology, population dynamics, mark-recapture, census, reproductive success, and energetics are part of a long-term monitoring effort coordinated with other Antarctic treaty nations under the auspices of Convention for the Conservation of Antarctic Marine Living Resources.

The U.S. AMLR Program also proposes continue studies of the behavioral ecology and population biology of the Adélie, gentoo, chinstrap and king penguins, as well as interactions among these species and their principal avian predators. Specific take activities associated with avian research include capture/handling/release, attaching of instrumentation, tagging/banding, weighing/measuring of individuals, tissue and egg sampling, diet sampling, placing of nest markers and censusing. The number of takes per annum of each avian species will be as follows: Chinstrap penguin (Pygoscelis antarcticus), Adélie penguin (Pygoscelis adeliae), Gentoo penguin (Pygoscelis papua), king penguin (Aptenodytes patagonicus), brown skua(Catharacta lonnbergi), south polar skua (Catharacta maccormicki), giant petrel (macronectes giganteus), kelp gull (Larus dominicanus), blue-eyed shag (Phalacrocorax atriceps), snowy sheathbill (Chionis alba) and cape petrel (Daption capensis). Those protocols related to the CCAMLR Ecosystem Monitoring Program (CEMP) are described by CCAMLR

The U.S. AMLR Program requests permission to continue long-term studies at the Cape Shirreff and Copacabana research sites. Additionally, the Program anticipates conducting intermittent peninsula-wide pinniped and seabird surveys. As such, access to all ASPAs in the South Shetland Islands and in the Antarctic Peninsula region is requested. Entry to sites will be made via U.S. AMLR charter or NSF vessels, with immediate access via zodiac operations. Peninsula-wide pinniped and seabird surveys may include the use of unmanned aerial vehicles and photogrammetry. All species, pinniped and avian, are subject to harmful interference due to census (aerial or ground) and other work described in this application.

Location: Antarctic Peninsula region, South Shetland Islands vicinity: Cape Shirreff, Livingston Island; San Telmo Islands; Copacabana, western shore of Admiralty Bay; and Lions Rump, King George Island.

ASPA 108, Green Island, Berthelot Islands, Antarctic Peninsula

ASPA 112, Coppermine Peninsula, Robert Island

ASPA 113, Litchfield Island, Arthur Harbor, Palmer Archipelago

ASPA 125, Fildes Peninsula, King George Island, South Shetland Islands

ASPA 126, Byers Peninsula, Livingston Island, South Shetland Islands

ASPA 128, Western Shore of Admiralty Bay, King George Island

ASPA 132, Potter Peninsula, King George Island, South Shetland Islands

ASPA 133, Harmony Point, Nelson Island, South Shetland Island

ASPA 134, Cierva Point offshore islands, Danco Coast, Antarctic Peninsula

ASPA 139, Biscoe Point, Anvers Island

ASPA 140, Shores of Port Foster, Deception Island, South Shetland Islands

ASPA 144, Chile Bay

ASPA 145, Port Foster, Deception Island, South Shetland Islands

ASPA 146, South Bay, Doumer Island, Palmer Archipelago

ASPA 148, Mount Flora, Hope Bay, Antarctic Peninsula

ASPA 149, Cape Shirreff, Livingston Island, South Shetland Islands

ASPA 150, Ardley Island, Maxwell Bay, King George Island, South Shetland Islands

ASPA 151, Lions Rump, King George Island, South Shetland Islands

ASPA 152, Western Bransfield Strait, Antarctic Peninsula

ASPA 153, East Dallmann Bay, Antarctic Peninsula

ASPA 171, Narebski Point, Barton Peninsula, King George Island

Dates of Permitted Activities: October 1, 2021-July 31, 2026.

Erika N. Davis,
Program Specialist, Office of Polar Programs.

[FR Doc. 2021-15676 Filed 7-22-21; 8:45 am]

BILLING CODE 7555-01-P